DEPARTMENT OF TRANSPORTATION

Pipeline and Hazardous Materials Safety Administration

[Docket No. PHMSA-2014-0092]

Pipeline Safety: Request for Revision of a Previously Approved Information Collection: National Pipeline Mapping System Program

AGENCY: Pipeline and Hazardous Materials Safety Administration (PHMSA), DOT.

ACTION: Notice and request for comments.

SUMMARY: In compliance with the Paperwork Reduction Act of 1995 (44 U.S.C. 3501 et seq.), PHMSA announces that the information collection request detailed below will be forwarded to the Office of Management and Budget (OMB) for review. On June 22, 2016, PHMSA published a notice and requested comments on proposed revisions to the National Pipeline Mapping System (NPMS) Program.” During the comment period, PHMSA received several comments on ways to improve this data collection and to consider a phased timeline to collect data. PHMSA is publishing this notice to address the comments received, to notify the public of proposed revisions to this information collection, and to announce that PHMSA is requesting a 3-year approval of this information collection from OMB.

DATES: Written comments on this information collection should be submitted by May 13, 2019.

ADDRESSES: Comments may be submitted in the following ways:

E-Gov website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., Monday through Friday, except Federal holidays.

Instructions: Identify the docket number PHMSA-2014-0092 at the beginning of your comments. Note that all comments received will be posted without change to www.regulations.gov, including any personal information provided. You should know that anyone is able to search the electronic form of all comments received into any of PHMSA's dockets by the name of the individual submitting the comment (or signing the comment, if submitted on behalf of an association, business, labor union, etc.). Therefore, you may want to review DOT's complete Privacy Act Statement in the Federal Register published on April 11, 2000 (65 FR 19476) or visit http://www.regulations.gov before submitting any such comments.

Docket: For access to the docket or to read background documents or comments, go to www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: “Comments on PHMSA-2014-0092.” The Docket Clerk will date stamp the postcard prior to returning it to you via the U.S. mail. Please note that due to possible delays in the delivery of U.S. mail to federal offices in Washington, DC, we recommend that persons consider an alternative method (internet, fax, or professional delivery service) of submitting comments to the docket and ensuring their timely receipt at DOT.

FOR FURTHER INFORMATION CONTACT: Amy Nelson, Geospatial Information Systems Manager, Outreach and Engagement Division, U.S. Department of Transportation, 1200 New Jersey Avenue SE, Washington, DC 20590, or by phone at 202-493-0591.

SUPPLEMENTARY INFORMATION:

I. Background

II. Attribute Changes

III. Retained Attributes

A. Pipe Diameter

B. Wall Thickness

C. Commodity Detail

D. Pipe Material

E. Pipe Grade

F. Pipe Join Method

G. Seam Type

H. Decade of Installation

I. Coated (yes/no)

J. Onshore/Offshore

K. In-line Inspection (yes/no)

L. Most Recent Assessment Method(s) and Year

M. Class Location

N. Gas High Consequence Area (HCA) segment

O. Segment Could Affect an HCA

P. Facility Response Plan Sequence Number

Q. Abandoned Pipelines

R. Breakout Tanks

S. Additional Liquefied Natural Gas Plant Attributes and Features

IV. General Comments

A. Reporting

B. Burden

C. Legality

D. Data Security

E. Definitions

V. Phased Timeline to Collect New Data Elements

A. Phase 1 data elements

B. Phase 2 data elements

C. Phase 3 data elements

VI. Mandates and Recommendations

VII. Summary of Impacted Collection

I. Background

On July 30, 2014, PHMSA published a notice and a request for comments in the Federal Register titled: “Request for Revision of a Previously Approved Information Collection: National Pipeline Mapping System Program” (79 FR 44246) (OMB Control No. 2137-0596) seeking comments on proposed changes to the NPMS data collection. Within this notice, PHMSA proposed to revise the currently approved NPMS data collection to expand the data attributes collected and to improve the positional accuracy of pipeline operators' NPMS submissions. On November 17, 2014, PHMSA held a public meeting to bring stakeholders together to discuss the NPMS information collection and to seek stakeholder input. Details about the meeting, including copies of the meeting's presentation files, can be found at: http://primis.phmsa.dot.gov/meetings/MtgHome.mtg?mtg=101. PHMSA encouraged participants of the meeting to submit comments on the proposed attributes to the docket. During the 60-day comment period, PHMSA received input from 28 different commenters comprised of pipeline operators, industry trade associations, public safety advocacy groups, and the public.

On August 27, 2015, PHMSA published another notice in the Federal Register (80 FR 52084) to address the comments received and to request additional comments on the proposed revisions to the July 2014 notice. During this subsequent comment period, PHMSA received feedback and several suggestions on how to improve the quality and efficiency of this information collection. PHMSA followed this comment period with another public meeting on September 10, 2015 and a technical workshop on November 25, 2015.

On June 22, 2016, PHMSA published a 30-day Notice in the Federal Register (81 FR 40757) to respond to comments from the August 27, 2015, notice and to present the version of the information collection that would be sent to OMB for final approval. Comments were submitted by: American Gas Association (AGA), American Petroleum Institute/Association of Oil Pipelines (API/AOPL), Interstate Natural Gas Association of America (INGAA), American Fuel and Petrochemical Manufacturers, TransCanada Corporation, Spectra Energy Partners, Texas Oil and Gas Association, and Pipeline Safety Trust (PST).

In January 2017, PHMSA sought input from the new Administration before proceeding with the proposed plans for the information collection. On May 18, 2018, PHMSA received the approval of the Secretary of Transportation (the Secretary) to resubmit the information collection to OMB. PHMSA is now publishing this notice respond to the comments received in response to the June 22, 2016 Notice. Please note that technical details pertaining to the new data elements, such as domains and reporting requirements for each attribute, can be found in the draft NPMS Operator Standards Manual which can be viewed at www.regulations.gov in Docket No. PHMSA-2014-0092.

The requested data is the first substantial update to NPMS submission requirements since the NPMS standards were developed in 1998. The NPMS is PHMSA's only dataset which tracks the locations of pipe characteristics, instead of how much/how many of those characteristics are in PHMSA's regulated pipelines. PHMSA seeks to reduce submission duplications and will consider the impact on the tabular data submitted through the Annual Reports once the data elements described in this notice are collected. Section 11 of the Pipeline Safety, Regulatory Certainty, and Job Creation Act of 2011 states that PHMSA may collect “any other geospatial or technical data, including design and material specifications, that the Secretary determines are necessary to carry out the purposes of this section. The Secretary shall give reasonable notice to operators that the data are being requested.” ¹ The National Transportation Safety Board (NTSB) Safety Recommendation P-11-8 states that PHMSA should “require operators of natural gas transmission and distribution pipelines and hazardous liquid pipelines to provide system-specific information about their pipeline systems to the emergency response agencies of the communities and jurisdictions in which those pipelines are located. This information should include pipe diameter, operating pressure, product transported, and potential impact radius.” Other NTSB Safety Recommendations are noted in Section IV.E, including the attributes they address.

¹ 49 U.S.C. 60132(a).

Specifically, the new data elements will:

• Aid all levels of government, from federal to municipal, in promoting public awareness of hazardous liquid and gas pipelines and in improving emergency responder outreach. Approximately 1,000 federal officials, 1,500 state officials and 5,500 county officials have access to the online mapping application. Providing these officials with an improved NPMS containing system-specific information about local pipeline facilities can help ensure emergency response agencies and communities are better prepared and can effectively execute response operations during incidents.

• Aid the industry in promoting public awareness and educating first responders about their pipelines. The NPMS applications are referenced by industry as a source for information about the location and characteristics of their pipelines.

• Permit more meaningful and accurate tabular and geospatial analysis, which will strengthen PHMSA's ability to evaluate existing and proposed regulations as well as operator programs and/or procedures.

• Strengthen the effectiveness of PHMSA's risk rankings and evaluations, which are used as a factor in determining pipeline inspection priority and frequency.

• Provide more accurate pipeline locations and additional pipeline-related geospatial data to assist with inspection planning and accident investigations by PHMSA pipeline inspectors.

• Support PHMSA's research and development programs by helping to predict the impact of new technology and other environmental factors on regulated pipelines.

II. Attribute Changes

PHMSA carefully reviewed appropriate security levels for each proposed new attribute. After discussions with the Transportation Security Administration (TSA), PHMSA identified six proposed attributes which, if collected, would receive Sensitive Security Information (SSI) status. These attributes are: Maximum Allowable Operating Pressure (MAOP)/Maximum Operating Pressure (MOP), percent Specified Minimum Yield Strength (SMYS), segment could affect a drinking water Unusually Sensitive Area, pump and compressor station locations, mainline block valve locations, and gas storage fields. PHMSA determined that further research is needed to develop the necessary safeguards and procedures for collecting this data. As a result, the data elements listed above have been removed from this information collection. PHMSA reserves the right to reconsider these data elements in the future. Complete details on the remaining data elements (such as format, categories, and whether an attribute is a required attribute) are in Appendix A of the draft NPMS Operator Standards Manual, which can be found at www.regulations.gov in Docket No. PHMSA-2018-0092.

III. Retained Attributes

After careful consideration of the comments received, along with the agency's pipeline safety goals, PHMSA has decided to move forward with the proposal to collect geospatial data on the following pipeline attributes (Sections III.A-III.Q), breakout tank attributes (Section III.R) and liquefied natural gas plants (Section III.S) with no substantial modifications from the Federal Register Notice issued on June 22, 2016, (81 FR 40757). As stated in the June 2016 Notice, by Phase 3 (2024), hazardous liquid pipeline operators must submit data with a positional accuracy of +/− 50 feet (for more information about the three phases referenced, see Section V). Gas transmission operators must submit data at +/− 50 feet accuracy for all segments which are in a Class 2, Class 3, or Class 4 area; are within an HCA or have one or more buildings intended for human occupancy or an identified site within its potential impact radius. Identified sites and HCAs are defined in § 192.903. All other gas pipeline segments must be mapped to a positional accuracy of +/− 100 feet.

A. Pipe Diameter

PHMSA originally proposed requiring operators to submit data on the nominal diameter, also called the nominal pipe size (NPS) of a pipe segment. Knowing the diameter of a pipeline can help emergency responders determine the potential impact area of a pipeline in the event of a release. This attribute also gives PHMSA the ability to know the sizes of pipelines operated in any given geographic region, and to further assess potential impacts to public safety and the environment. It is reasonable to assume that a large diameter pipeline may pose a greater hazard during a rupture. Knowing the location of large diameter pipelines in relation to populated areas will help PHMSA effectively prioritize inspections and emergency response planning. PHMSA received no comments on the June 22, 2016, 30-day Notice pertaining to pipe diameter.

PHMSA will move forward with this attribute as originally proposed. To be consistent with other reporting methods, diameter will be reported as NPS of the pipeline segment, which identifies the diameter with a dimensionless value (e.g., 8.625” outside diameter pipe is reported as NPS 8, 5” outside diameter is NPS 4.5). This attribute will be collected in Phase 1.

B. Wall Thickness

PHMSA originally proposed to collect data on the wall thickness of a pipe in decimal inches and collected in Phase 1.

AGA commented that this data element has no independent value when calculating risk and does not relate to the risk of corrosion. AGA asked whether it would apply to pre-1970 pipe and requested that it be moved to Phase 3. API and AOPL also asked whether it would apply to pre-1970 pipe and requested that it be moved to Phase 2. PHMSA has identified nominal wall thickness as a fundamental piece of information for determining pipeline risk. This information is especially critical for determining the relative risk of corrosion. Loss of wall thickness can occur for different reasons including corrosion, arc burns, and gouges due to excavation damage or improper back-fill. Prior excavation damage and corrosion are time-dependent threats. This data element will provide PHMSA the means to assess the adequacy of wall thickness requirements and remaining strength projections over time. Wall thickness can also be used to determine if existing pipe design is adequate for the present class location. Additionally, a lower wall thickness value, in the presence of inadequate cathodic protection, indicates a greater chance that an anomaly will grow to a level that requires intervention per 49 CFR part 192 or 195. The importance of collecting wall thickness data increased after PHMSA decided to remove SMYS from the list of required attributes.

In response to API's and AOPL's inquiry about pre-1970 pipe, PHMSA notes §§ 192.13, 192.359(b), 192.455, and 192.457 contain clauses that apply to the construction and maintenance of pipelines. However, the data points proposed in this information collection do not deal with the construction or maintenance of pipelines—only with the characteristics of the pipeline. Therefore, the requirements for this data element would apply to pre-1970 pipeline. This attribute will be collected in Phase 2.

C. Commodity Detail

PHMSA proposed operators submit additional commodity information for pipelines if the transported commodity is crude oil, product, or natural gas, and subcategories of each. The list of commodity categories is available in the NPMS Operator Standards Manual (Appendix A). Other categories may be added as needed. PHMSA received no comments in the June 22, 2016, 30-day Notice pertaining to commodity detail.

PHMSA will move forward with this data collection. This data attribute is required because of potential differences in leak characteristics, rupture-impacted hazardous areas, and a pipeline's internal integrity. Emergency responders can better respond to pipeline incidents if they are aware of the commodity transported. This attribute will be collected in Phase 1.

D. Pipe Material

PHMSA originally proposed that operators submit data on pipe material. Knowing the pipe material helps PHMSA determine the level of potential risk from excavation damage and external environmental loads. This data can also help in emergency response planning. Operators will be required to submit data on whether a segment was constructed out of cast iron, wrought iron, plastic, steel, composite, or other material. The only related comment in the June 22, 2016, 30-day Notice pertained to the list of material categories and is discussed below. PHMSA will move forward with this data collection. PHMSA has aligned the material categories to match the Annual Report categories. This attribute will be collected in Phase 1.

E. Pipe Grade

PHMSA originally proposed that operators submit information on the predominant pipe grade of a pipeline segment to be collected in Phase 1. AGA commented that this data element has no independent value when calculating risk. They asked whether it would apply to pre-1970 pipe and requested that it be moved to Phase 3. API and AOPL requested that this data element be moved to Phase 2.

In response to API's and AOPL's inquiry about pre-1970 pipe, PHMSA notes §§ 192.13, 192.359(b), 192.455, and 192.457 contain clauses that apply to the construction and maintenance of pipelines. However, the data elements proposed do not deal with the construction or maintenance of pipelines—only with the characteristics of the pipeline. Therefore, the requirements for this data element would apply to pre-1970 pipeline.

This information is essential in assessing pipeline integrity, and is a necessary component in determining the allowable operating pressure of a pipeline. The list of pipe grades is available in the NPMS Operator Standards (Appendix A). Operators may submit either actual or predominant (90% of pipe segment) values. This attribute will be collected in Phase 2.

F. Pipe Join Method

PHMSA proposed operators submit data on the pipe join method. PHMSA would use this information to identify high-risk joining methods and as inputs for PHMSA's risk rankings and evaluations. These models are used to determine pipeline inspection priority and frequency.

AGA requested that operators have a “predominant” option or that “flanged” be removed as a category to avoid heavy segmentation (since a very common scenario is to have a flanged valve attached to a pipe segment which has a welded join method). PHMSA will move forward with this collection and accept predominant values where the value reported represents the characteristics of 90% or more of the pipe segment. This attribute will be collected in Phase 1.

G. Seam Type

PHMSA proposed operators submit data on the seam type of each pipe segment to be collected in Phase 1. PHMSA requires seam type to evaluate the risk of Low Frequency Electric Resistance Weld seam failures in all areas. Seam type is also needed to properly determine MAOP.

API and AOPL asked whether this element would be required for pre-1970 pipe and requested that it be moved to Phase 2. They asked whether it would be required for segments where a yield test has been performed to verify MAOP/MOP. AGA also asked whether it would apply to pre-1970 pipe and requested that it be moved to Phase 3. AGA stated that operators are not required to have this information. INGAA requested that this data element be collected only for Class 3, Class 4 and “could affect” HCA segments, which would match the requirements of the NPRM titled “Safety of Gas Transmission and Gathering Pipelines” published on April 8, 2016, (81 FR 20722).

In response to API's and AOPL's inquiry about pre-1970 pipe, PHMSA notes §§ 192.13, 192.359(b), 192.455, and 192.457 contain clauses that apply to the construction and maintenance of pipelines. However, the data points proposed in this information collection do not deal with the construction or maintenance of pipelines—only with the characteristics of the pipeline. Therefore, the requirements for this data element would apply to pre-1970 pipelines.

This data is needed to evaluate the risk of Low Frequency Electric Resistance Weld seam failures in all areas. This attribute will be collected in Phase 2.

H. Decade of Installation

PHMSA proposed operators submit the “predominant” decade of installation on a pipeline segment, signifying 90% or more of the physical pipe represented by the segment. The list of decade categories is available in the NPMS Operator Standards Manual (Appendix A), and aligns with the categories in the Annual Report. The only related comment in the June 22, 2016 30-day Notice pertained to the list of decade categories and is discussed below. PHMSA will move forward with this data collection and has aligned the decade categories to match the Annual Report categories. This attribute will be collected in Phase 2.

I. Coated (yes/no)

PHMSA proposed operators designate whether a pipe segment is effectively coated or not. PHMSA will move forward with this attribute as originally proposed. PHMSA received no comments on the June 22, 2016, 30-day Notice pertaining to this attribute. PHMSA will move forward with this data collection. This attribute will be collected in Phase 1.

J. Onshore/Offshore

PHMSA proposed operators designate whether a pipeline segment is located onshore or offshore. PHMSA directs operators to the definition of an offshore pipeline found in §§ 191.3 and 195.2, which states: “Offshore means beyond the line of ordinary low water along that portion of the coast of the United States that is in direct contact with the open seas and beyond the line marking the seaward limit of inland waters.” This data collection will allow PHMSA to have accurate pipeline location statistics for regulatory purposes.

PHMSA received no comments on the June 22, 2016, 30-day Notice pertaining to this attribute. PHMSA will move forward with this attribute as originally proposed. This attribute will be collected in Phase 1.

K. In-Line Inspection (yes/no)

Federal pipeline safety regulations require that new and replaced pipelines be capable of In-line Inspection (ILI) in §§ 192.150(a) and 195.120(a). PHMSA proposed operators report whether their pipelines are capable of ILI or not.

AGA commented that collecting this data as simply “yes or no” would not satisfy NTSB Safety Recommendations P-15-18 ² and P-15-20.³ AGA also asked that this data element be moved to Phase 3.

² That all natural gas transmission pipelines be capable of being in-line inspected by either reconfiguring the pipeline to accommodate in-line inspection tools or by the use of new technology that permits the inspection of previously uninspectable pipelines; priority should be given to the highest risk transmission pipeline that considers age, internal pressure, pipe diameter, and class location.

³ Operators identify all operational complications that limit the use of in-line inspection tools in piggable pipelines, develop methods to eliminate the operational complications, and require operators to use these methods to increase the use of in-line inspection tools.

INGAA requested that ILI be defined as: “[a]n instrumented in-line inspection segment means a length of pipeline through which a free-swimming commercially available in-line inspection tool can travel without the need for any permanent physical modifications to the pipeline and (1) is capable of assessing the identified threat(s), (2) can inspect the entire circumference of the pipe, and (3) can record or transmit relevant, interpretable inspection data.” PHMSA recognizes the definition of ILI could be further clarified. Noting that INGAA's definition of a pipe capable of accepting an ILI excludes tethered pipe, PHMSA proposes changes to the ILI data element as follows: “whether a line is capable of accepting an ILI (defined as an internal passage device that can assess the geometry and pipe wall conditions on a continuous basis for the pipeline segment transited) with currently available technology.”

PHMSA will move forward to collect the revised data attribute in Phase 1. This data will be used by PHMSA for risk evaluation, inspection prioritization, integrity management plan evaluation and decisions on future regulations, including cost/benefit analysis. It will also address in part two NTSB Safety Recommendations, P-15-4 and P-15-22.

L. Most Recent Assessment Method(s) and Year

PHMSA proposed operators submit the most recent assessment method and the year of that assessment for every pipeline segment required to be assessed per part 192, subpart O or part 195, subpart F. If the operator performed more than one type of assessment on that date, a secondary or tertiary assessment method can be submitted. The list of assessment methods is available in the NPMS Operator Standards Manual (Appendix A). The year is collected as a 4-digit integer. PHMSA received no comments on the June 22, 2016, 30-day Notice pertaining to this attribute. PHMSA will move forward with this attribute as originally proposed. This attribute will be collected in Phase 2.

M. Class Location

PHMSA proposed operators of gas transmission pipeline segments submit information on the predominant class location of a gas transmission pipeline segment. PHMSA received no comments on the June 22, 2016, 30-day Notice pertaining to this attribute.

PHMSA will move forward with the collection of this attribute as originally proposed. This information is a critical measure of population risk and is necessary to ensure that integrity management rules are properly applied to high-risk areas. This data is valuable to PHMSA for prioritizing, planning, and conducting safety inspections. This attribute will be collected in Phase 1.

N. Gas HCA Segment

PHMSA proposed gas transmission operators identify HCA pipe segments as defined by § 192.903. PHMSA received no comments on the June 22, 2016, 30-day Notice pertaining to this attribute.

PHMSA will move forward with the Gas HCA segment attribute as originally proposed. This information will help emergency responders identify pipelines with greater potential for significant damage. Additionally, these attributes identify pipelines subject to integrity management programs. PHMSA has explicit statutory authority to map high consequence areas under 49 U.S.C. 60132(d). Gas operators are only expected to submit information on whether a segment is an HCA segment as defined in § 192.903. This attribute will be collected in Phase 1.

O. Segment Could Affect an HCA

PHMSA proposed hazardous liquid operators identify pipe segments which could affect HCAs as defined by § 195.450. Pipeline segments can be classified as affecting or not affecting the following: “Highly Populated Areas,” “Other Populated Areas,” “Ecological Unusually Sensitive Areas,” “Drinking Water Unusually Sensitive Areas (DW USA),” (not included in this information collection), and “Commercially Navigable Waterways.”

API and AOPL requested that PHMSA provide a definition for “could affect.” As API and AOPL noted, Appendix C of § 195.452 already provides guidance on determining if a segment could affect an HCA. Additional guidance on when a segment “could affect” an HCA can be found in the Final Orders issued by PHMSA in CPF No. 1-2002-5007 ⁴ and CPF No. 5-2004-5025,⁵ and pages 21-22 of PHMSA's Hazardous Liquid Integrity Management Enforcement Guidance (Dec. 7, 2015).⁶ PHMSA believes these sources provide adequate guidance as to when a segment “could affect” an HCA.

⁴ https://primis.phmsa.dot.gov/comm/reports/enforce/documents/120025007/120025007_final%20order_06232003_text.pdf.

⁵ https://primis.phmsa.dot.gov/comm/reports/enforce/documents/520045025/520045025_FinalOrder_04172009_text.pdf.

⁶ https://www.phmsa.dot.gov/sites/phmsa.dot.gov/files/docs/Hazardous_Liquid_IM_Enforcement_Guidance_12_7_2015.pdf.

TransCanada opposed collection of this attribute due to concerns over PHMSA's ability to keep the data secure. However, due to the very high sensitivity of the DW USA, PHMSA's proposal will not include data on pipeline segments affecting DW USA. PHMSA has safeguarded the sensitive ecological data collected since 2001 with no data breaches and PHMSA is committed to safeguarding this data.

PHMSA will move forward with the “could affect HCA” attributes as originally proposed, excluding DW USA. This proposed attribute will help emergency response planners identify pipelines with greater potential for significant environmental damage to surrounding areas. Further, the “could affect HCA” attributes identify pipelines subject to integrity management programs. PHMSA has explicit statutory authority to map high-consequence assets under 49 U.S.C. 60132(d). Access to this information will be limited to government employees who need this data to perform their official duties. This attribute will be collected in Phase 2.

P. Facility Response Plan Sequence Number

PHMSA proposed operators submit the Facility Response Plan (FRP) Sequence Number for certain liquid pipeline segments according to Part 194. This is a 4-digit integer (i.e., 0003) assigned by PHMSA and provided to the operator in the “Letter of Approval” for the submitted FRP. PHMSA received no comments in the June 22, 2016, 30-day Notice pertaining to this attribute.

PHMSA will move forward with this attribute as originally proposed. Access to the relevant FRP Sequence Number through NPMS would be beneficial to first responders in an emergency, especially in areas with multiple pipeline facilities. Since applicable liquid operators are required to have this information, PHMSA believes it should be minimally burdensome to submit. This attribute will be collected in Phase 2.

Q. Abandoned Pipelines

PHMSA proposed that all gas transmission and hazardous liquid pipelines abandoned after the effective date of this information collection be submitted to the NPMS. Abandoned pipelines are defined in §§ 192.3 and 195.2 as those that are “permanently removed from service.” Abandoned lines are not currently required to be submitted to the NPMS unless they are offshore or cross a “Commercially Navigable Waterway.” Operators would only need to submit this data in the calendar year after the pipeline abandonment occurs. This attribute will be collected in Phase 1.

This information is important for PHMSA to determine whether proper pipeline abandonment procedures are followed. PHMSA inspectors have identified past incidents involving lines which had been mischaracterized as abandoned (i.e., still containing a commodity or not permanently abandoned in accordance with federal regulations). Since operators are already required to map their lines and indicate the proper status, PHMSA believes that identifying recently abandoned segments is not burdensome.

R. Breakout Tanks

PHMSA proposed to require the submission of breakout tank data, which is currently optional to report. This proposal will make breakout tank data submission mandatory. API and AOPL requested this data element be accessible only by password protected Pipeline Information Management and Mapping Application (PIMMA) users, and not to the general public via the Public Viewer. TransCanada commented that the burden to prepare this information is high and PHMSA has not demonstrated sufficient need for the data.

PHMSA will retain this data element in the information collection. This data is needed by PHMSA inspectors to locate individual tanks within a tank farm and determine the types of tanks in a farm. Information that was previously collected in optional breakout tank submissions has been removed from this data element, as it is already collected in the operator's transmittal letter which accompanies its submission. Also, the commodity codes and revision codes have been updated to match Annual Report codes and existing NPMS codes. A clarifying note has been added to the TANKSIZE attribute.

Approximately 45% of breakout tanks have been submitted to the NPMS on an optional basis and are currently viewable in the Public Viewer. The locations of breakout tanks are also shown on commercially available imagery. PHMSA will continue to display this element on the Public Viewer. This attribute will be collected in Phase 1.

S. Additional Liquefied Natural Gas Plant Attributes and Features

PHMSA proposed to collect additional data attributes and features for liquefied natural gas (LNG) plants under PHMSA's jurisdiction. The new attributes include type of plant, year constructed, and capacity. The new features are impoundments and exclusion zones. Appendices A2-A4 of the NPMS Operator Standards Manual contain technical details on submitting this data. API and AOPL requested that this data element be viewable only to users of the password-protected application PIMMA, and not to the general public via the Public Viewer. MidAmerican commented that emergency responders should be working directly with operators during an emergency to obtain this data and should not be getting it through the NPMS.

PHMSA intends to proceed with this information collection as originally proposed. However, PHMSA will restrict the additional LNG plant attributes to PIMMA, and will advise emergency responders that their first line of communication about LNG plant information in an emergency should be with the operator, not PIMMA. Geospatial information on the location and characteristics of LNG plants helps PHMSA and emergency responders better understand potential safety risks on a national and local level, respectively, and provides location data which is not submitted on the PHMSA Annual Report. This attribute will be collected in Phase 1.

IV. General Comments

A. Reporting

Spectra requested the ability to submit a full replacement NPMS submission each year and to eliminate the Revision Code field (REVIS_CD) for individual attributes.

Full Replacement submissions are always accepted by the NPMS. To simplify the submission process, operators may also only submit an attribute addition, removal, or edit, or notify NPMS that no changes are necessary. Because PHMSA uses change tracking to create pipeline “history,” submitting a revision code to explain why a segment is new or the type of change that has occurred on that segment, if any, is necessary. This allows PHMSA to differentiate operator performance from pipeline performance and view the history of a pipe segment as it changes operators. The revision code is already a required attribute in the NPMS Operator Standards. Operators that have difficulty in determining asset changes since their previous NPMS submission are asked to contact the NPMS processing department (npms@dot.gov) to request a GIS file format copy of their previous data submission to support comparison efforts. There is no revision code required for individual attributes on a pipe segment; the revision code is only required once for each pipe segment. (Refer to the NPMS Operator Standards Manual for further details.) ⁷

⁷ https://www.npms.phmsa.dot.gov/Documents/Operator_Standards.pdf.

Spectra also asked that PHMSA train emergency responders in NPMS usage. PHMSA already conducts numerous outreach efforts each year to educate emergency responders about the NPMS.

The Pipeline Safety Trust asked for more data elements to be added to the Public Viewer instead of being kept only on password-protected PIMMA. PHMSA has reviewed all data elements individually and determined the appropriate security level for each attribute based on, among other things, discussions with TSA.

American Fuel Petrochemical and Texas Oil and Gas asked that PHMSA convene a working group including industry stakeholders before finalizing the information collection. The information collection has had three comment periods prior to this notice, two of which have been extended to allow all interested parties to submit comments, as well as two public meetings in 2014 and 2015 and a technical workshop in 2015. Therefore, it is not necessary to convene a working group.

INGAA asked for changes to the values collected in Appendix A of the NPMS Operator Standards Manual to better align with Annual Reports. Specifically, INGAA asked that:

• An “unknown” option be added to the Percent SMYS attribute, to match the options available in Part K of the PHMSA Annual Report. Because this attribute is no longer part of this information collection, this comment is no longer applicable.

• The diameter (reported as nominal pipe size) includes a category of “NPS 4 or less” to match the PHMSA Annual Report categories instead of allowing the operator to enter NPS values, as proposed by PHMSA in the Operator Standards Manual. PHMSA's decision to collect NPS as a numeric value aligns with PHMSA's accident and incident reporting requirements and preserves the numeric field type for statistical analysis. To add a “NPS 4 or less” category would apply to less than 0.5% of the pipe submitted to the NPMS. PHMSA will retain this attribute collection as a numeric NPS value, in line with PHMSA's accident and incident reports.

• For “Decade of Installation”, remove the 1920-1929 and 1930-1939 categories and change the pre-1920 category to pre-1940 to align with PHMSA's Annual Report categories. PHMSA will make this change.

• “Wrought Iron” be added as an option for “Pipe Material”, to align with PHMSA's Annual Report categories. PHMSA will make this change.

PHMSA acknowledges that a number of the proposed attributes are also collected on the Annual Report forms. There are often discrepancies between the data submitted to the NPMS and the data that is recorded in the Annual Reports. Data quality is a top priority to PHMSA and its stakeholders. PHMSA plans to use the NPMS data to corroborate and to fill in any gaps that exist in the data collected via the Annual Reports.

B. Burden

AGA, Texas Oil and Gas, and Spectra commented that the burden has been underestimated. INGAA asked that the filing deadline for NPMS submissions for gas transmission operators be moved to March 30 annually, instead of the current March 15 deadline. PHMSA responds that a deadline change would require a rulemaking, as the March 15 deadline is specified in § 191.29. However, any operator that needs additional time to prepare its NPMS submission is welcome to contact PHMSA's NPMS staff (npms@dot.gov) to request an extension.

C. Legality

AGA commented that operators are not required to have GIS capabilities and many of the attributes in this information collection are not required in parts 191 and 195. NPMS submission is required in §§ 191.29 and 195.61. If an operator does not have a GIS, the operator may submit NPMS data in an alternate format as specified in the NPMS Operator Standards Manual, available at https://www.npms.phmsa.dot.gov/Documents/Operator_Standards.pdf.

INGAA asked that the following language be added: “Except where stricter quality or accuracy requirements are defined in this document, operators should use their best readily available data and engineering judgment to determine attribute values.” PHMSA acknowledges INGAA's comments and will accept NPMS data based on sound engineering judgment. Attributes in this information collection must accurately reflect pipeline, LNG, and breakout tank characteristics based on exact data or sound engineering judgement, not based solely on the best readily available data.

NTSB Safety Recommendation P-15-4 includes improving the accuracy of attribute details relevant to safety, §§ 191.29 and 195.61 require that operator submittals to the NPMS reflect assets as of December 31 of the previous year, and comments to date support improving the accuracy and completeness of the NPMS. Also, Safety Recommendation P-15-22 (to develop and implement a plan to improve data integration for integrity management) is supported by this information collection. In support of these recommendations, regulations, and pipeline safety needs, operators should use exact data or sound engineering judgement to submit accurate information to the NPMS.

D. Data Security

API and AOPL commented that PHMSA needs to provide more details on how SSI data elements will be protected. TransCanada, Texas Oil and Gas, and American Fuel Petrochemical also expressed doubt about PHMSA's ability to protect SSI data elements. As mentioned in Section II above, SSI data elements have been removed from this information collection. PHMSA has discussed the appropriate security categorization for the new data elements with TSA and has reviewed all comments regarding security submitted during the two 60-day Notice comment periods.

The elements in the list below are proposed to be restricted to government officials by inclusion in PIMMA, which is accessible at www.npms.phmsa.dot.gov. PIMMA is password protected and available only to government officials (who may view the data for their jurisdiction). All PIMMA users are vetted to confirm their identity and employment before a password is issued. Pipeline operators may gain access to PIMMA but they can only view information for the pipelines they operate. The elements below may also be provided in shapefile or geodatabase format to requesting government officials upon verification of identity and employment, and receipt of a signed letter consenting to PHMSA's data security policy.

Elements restricted to government officials:

• Pipe diameter

• Commodity detail

• Pipe grade

• Seam type

• Decade of installation

• Wall thickness

• In-line inspection (yes/no)

• Class location

• Gas HCA segment

• Segment “could affect” an HCA

• Assessment method

• Assessment year

• Coated (yes/no)

• FRP sequence number

• Proposed new LNG plant attributes (type of plant, total capacity, year constructed, impoundments, and exclusion zones)

• Breakout tank capacity

The following elements are proposed to be displayed on the NPMS Public Viewer. The current extent (one county per session) and zoom level (no closer than 1:24,000) restrictions will remain in place.

Public Viewer elements:

• Pipe material

• Pipe join method

• Onshore/offshore

• Abandoned lines

• LNG plant locations and attributes not listed under the “elements restricted to government officials” section

• Breakout tank locations and attributes (excluding capacity)

E. Definitions

Several commenters, as well as attendees of the November 2015 Operator Workshop, expressed serious concerns about the use of the word “predominant.” These concerns centered on how the usage of predominant attributes is poorly defined, difficult to verify compliance with, and risks improper categorization of pipeline risk. From a technical standpoint, operators indicated it was more difficult for them to generalize values into a “predominant” value than to submit actual values. For these reasons, submitting a “predominant” value will always be optional. Appendix A of the NPMS Operator Standards details the data elements for which “predominant” is an option.

V. Phased Timeline To Collect New Data Elements

PHMSA acknowledges operators' concerns regarding the amount of time needed to compile, research, and/or prepare the data required for this information collection. PHMSA will collect the new data elements in three phases. Phase 1 data will be collected the first submission year after the effective date, Phase 2 data will be collected the second submission year after the effective date, and Phase 3 data will be collected in 2024. The data elements in each phase are listed below.

Phase 1

• Pipe diameter

• Commodity detail

• Pipe material

• Pipe join method

• Onshore/offshore

• In-line inspection (yes/no)

• Class location

• Gas HCA segment

• Abandoned pipelines

• Breakout tanks

• LNG plants

• Coated (yes/no)

Phase 2

• Seam type

• Pipe grade

• Wall thickness

• FRP Sequence Number

• Decade of installation

• Segment could affect an HCA

• Assessment method

• Assessment year

Phase 3

• Positional accuracy conforms with new standards

VI. Mandates and Recommendations

This proposed information collection will gather geospatial information which will be used to fulfill Congressional mandates and NTSB safety recommendations. These mandates and recommendations include:

• Pipeline Safety, Regulatory Certainty, and Job Creation Act of 2011, Section 11: Any other geospatial or technical data, including design and material specifications, that the Secretary determines are necessary to carry out the purposes of this section. The Secretary shall give reasonable notice to operators that the data are being requested.

• NTSB P-11-8: Require operators of natural gas transmission and distribution pipelines and hazardous liquid pipelines to provide system-specific information about their pipeline systems to the emergency response agencies of the communities and jurisdictions in which those pipelines are located. This information should include pipe diameter, operating pressure, product transported, and potential impact radius.

• NTSB P-15-4: Increase the positional accuracy of pipeline centerlines and pipeline attribute details relevant to safety in the National Pipeline Mapping System.

• NTSB P-15-5: Revise the submission requirement to include high consequence area identification as an attribute data element to the National Pipeline Mapping System.

• NTSB P-15-8: Work with the appropriate federal, state, and local agencies to develop a national repository of geospatial data resources for the process for High Consequence Area identification, and publicize the availability of the repository.

• NTSB P-15-22: Develop and implement a plan for all segments of the pipeline industry to improve data integration for integrity management through the use of geographic information systems.

The following table shows the applicable data elements.

Mandate or safety recommendation | Information collection data element(s)
Pipeline Safety, Regulatory Certainty, and Job Creation Act of 2011, Section 11 | Diameter, Pipe material, Seam type, Wall thickness, Pipe join method, In-line Inspection y/n.
NTSB P-11-8 | Diameter, Commodity detail.
NTSB P-15-4 | Positional accuracy, Diameter, Commodity detail, Seam type, Decade of installation, Wall thickness, Pipe join method, In-line Inspection y/n, Class location, Gas HCA segment, Segment “could affect” an HCA, Coated (yes/no).
NTSB P-15-5 | Class location, Gas HCA segment, Segment “could affect” an HCA.
NTSB P-15-8 | Class location, Gas HCA segment, Segment “could affect” an HCA.
NTSB P-15-22 | Pipe material, Seam type, Wall thickness, Pipe join method, In-line Inspection y/n, Method of last assessment, Year of last assessment, Coated (yes/no).

VII. Summary of Impacted Collection

The following information is provided for this information collection: (1) Title of the information collection, (2) OMB control number, (3) Current expiration date, (4) Type of request, (5) Abstract of the information collection activity, (6) Description of affected public, (7) Frequency of collection, and (8) Estimate of total Annual Reporting and recordkeeping burden. PHMSA requests comments on the following information collection:

Title: National Pipeline Mapping System Program.

OMB Control Number: 2137-0596.

Expiration Date: 3/31/2020.

Type of Review: Revision of a Previously Approved Information Collection.

Abstract: Each operator of a pipeline facility (except distribution lines and gas gathering lines) must provide PHMSA geospatial data, attributes, metadata, contact information and a transmittal letter appropriate for use in the National Pipeline Mapping System. Operators submit this information each year on or before March 15 for gas transmission and LNG plant operators, or June 15 for hazardous liquid operators. PHMSA uses this data to maintain and improve the accuracy of the NPMS's information.

Respondents: Operators of natural gas, hazardous liquid, and liquefied natural gas plants.

Number of Respondents: 1,346.

Number of Responses: 1,346.

Frequency: Annual.

Estimate of Total Annual Burden: 162,208 hours.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: 44 U.S.C. 3501 et seq.; 49 U.S.C. 60101 et seq.; 49 CFR 1.48; and 49 CFR 1.97.

Issued in Washington, DC, on April 5, 2019, under authority delegated in 49 CFR 1.97.
Alan K. Mayberry,
Associate Administrator for Pipeline Safety.

[FR Doc. 2019-07133 Filed 4-10-19; 8:45 am]

BILLING CODE 4910-60-P